DEPARTMENT OF COMMERCE

National Oceanic and Atmospheric Administration

Agency Information Collection Activities; Submission to the Office of Management and Budget (OMB) for Review and Approval; Comment Request; West Coast Region Highly Migratory Species Vessel Identification Requirements

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 3, 2020.

ADDRESSES: Interested persons are invited to submit written comments to Adrienne Thomas, NOAA PRA Officer, at Adrienne.thomas@noaa.gov. Please reference OMB Control Number 0648-0361 in the subject line of your comments. Do not submit Confidential Business Information or otherwise sensitive or protected information.

FOR FURTHER INFORMATION CONTACT: Requests for additional information or specific questions related to collection activities should be directed to Shannon Penna, National Marine Fisheries Service (NMFS), West Coast Region (WCR) Long Beach Office, 501 West Ocean Blvd., Suite 4200, Long Beach, CA 90802, (562) 980-4238 or shannon.penna@noaa.gov.

SUPPLEMENTARY INFORMATION:

I. Abstract

The success of fisheries management programs depends significantly on tracking catch and effort of participants as well as their history of regulatory compliance. The vessel identification requirement is essential to facilitate these objectives. The ability to link fishing or other activity to the vessel owner or operator is crucial to enforcement of the regulations issued under the authority of the Magnuson-Stevens Fishery Conservation and Management Act to govern domestic and foreign fishing, and under authority of laws implementing international treaties.

Regulations at 50 CFR 660.704 require that all commercial fishing vessels with permits issued under authority of the National Marine Fishery Service's (NMFS) Fishery Management Plan for United States (U.S.) West Coast Highly Migratory Species Fisheries display the vessel's official number (U.S. Coast Guard documentation number or state registration number). The numbers must be of a specific size and format and located at specified locations. The official number must be affixed to each vessel subject to this section in block Arabic numerals at least 10 inches (25.40 centimeters) in height for vessels more than 25 feet (7.62 meters) but equal to or less than 65 feet (19.81 meters) in length; and 18 inches (45.72 centimeters) in height for vessels longer than 65 feet (19.81 meters) in length. Markings must be legible and of a color that contrasts with the background. The display of the identifying number aids in fishery law enforcement.

In the domestic West Coast Region fisheries regulated under 50 CFR part 660, the vessel's official number, United State Coast Guard (USCG) documentation or state registration number, is required to be displayed on the port and starboard sides of the deckhouse or hull, and on an appropriate weather deck. The number identifies each vessel and should be visible at distances at sea and in the air. The requirements affect United States (U.S.) vessels participating in the West Coast Highly Migratory Species (HMS) fisheries and West Coast coastal pelagic fishing vessels, with the exception of HMS Charter Recreational Vessels for which an exemption was granted and became effective September 5, 2007. Charter vessels are no longer bound by the vessel marking requirements under consideration.

The identification number provides law enforcement personnel with a means to monitor fishing, at-sea processing, and other related activities, in order to ascertain whether the vessel's observed activities are in accordance with those authorized for that vessel. The identifying number is used by the National Marine Fisheries Service (NMFS), the USCG, and other marine agencies in issuing citations, prosecutions, and other enforcement actions. Vessels that qualify for specific fisheries are easily identified, and this allows for more cost-effective enforcement. Cooperating fishermen also use this number to report suspicious activities that they observe. Regulation-compliant fishermen ultimately benefit as unauthorized and illegal, unreported, and unregulated (IUU) fishing is deterred and more burdensome regulations are avoided.

II. Method of Collection

The vessels' official numbers are displayed on the vessels.

III. Data

OMB Control Number: 0648-0361.

Form Number(s): None.

Type of Review: Regular submission (extension of a current information collection).

Affected Public: Business or other for-profit organizations.

Estimated Number of Respondents: 1700.

Estimated Time per Response: All but purse seine vessels: 45 minutes; purse seine fishing vessels of 400 short tons (362.8 metric tons (mt)) carrying capacity; 1 hour and 30 minutes.

Estimated Total Annual Burden Hours: 643.75 hours.

Estimated Total Annual Cost to Public: $27,400.

Respondent's Obligation: Mandatory.

Legal Authority: Magnuson-Stevens Fishery Conservation and Management Act.

IV. Request for Comments

We are soliciting public comments to permit NOAA to: (a) Evaluate whether the proposed information collection is necessary for the proper functions of NOAA, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-11960 Filed 6-2-20; 8:45 am]

BILLING CODE 3510-22-P